FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th Street and Constitution Avenue NW, Washington, DC 20551-0001, not later than January 23, 2020.

A. Federal Reserve Bank of St. Louis (David L. Hubbard, Senior Manager) P.O. Box 442, St. Louis, Missouri 63166-2034. Comments can also be sent electronically to Comments.applications@stls.frb.org:

1. First Horizon National Corporation, Memphis, Tennessee; to acquire IBERIABANK Corporation and thereby indirectly acquire IBERIABANK, both of Lafayette, Louisiana.

B. Federal Reserve Bank of New York (Ivan Hurwitz, Senior Vice President) 33 Liberty Street, New York, New York 10045-0001. Comments can also be sent electronically to Comments.applications@ny.frb.org:

1. Barclays US Holdings Limited, New York, New York; a company organized under the laws of the Cayman Islands, to become a bank holding company by acquiring Barclays US LLC, also of New York, New York, and thereby indirectly acquire Barclays Bank Delaware, Wilmington, Delaware. In addition, Barclays PLC and Barclays Bank PLC, both of London, England, to retain Barclays US Holdings Limited and thereby indirectly acquire Barclays US LLC and Barclays Bank Delaware.

Board of Governors of the Federal Reserve System, December 20, 2019.
Michele Taylor Fennell,
Assistant Secretary of the Board.

[FR Doc. 2019-28000 Filed 12-27-19; 8:45 am]

BILLING CODE P